SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: November 1-30, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f)

1. RENEWAL—Coterra Energy Inc.; Pad ID: Smith P3; ABR-20090554.R3; Springville Township, Susquehanna County, Pa.; Consumptive Use of Up to 5.0000 mgd; Approval Date: November 14, 2024.

2. RENEWAL—Chesapeake Appalachia, L.L.C.; Pad ID: James Smith; ABR-20091020.R3; Terry Township, Bradford County, Pa.; Consumptive Use of Up to 7.5000 mgd; Approval Date: November 25, 2024.

3. RENEWAL—Chesapeake Appalachia, L.L.C.; Pad ID: Jayne; ABR-20091021.R3; Auburn Township, Susquehanna County, Pa.; Consumptive Use of Up to 7.5000 mgd; Approval Date: November 25, 2024.

4. RENEWAL—Chesapeake Appalachia, L.L.C.; Pad ID: Roundwood; ABR-201410001.R2; Braintrim Township, Wyoming County, Pa.; Consumptive Use of Up to 7.5000 mgd; Approval Date: November 25, 2024.

5. RENEWAL—Chesapeake Appalachia, L.L.C.; Pad ID: SGL-12 B Drilling Pad; ABR-201410005.R2; Overton Township, Bradford County, Pa.; Consumptive Use of Up to 7.5000 mgd; Approval Date: November 25, 2024.

6. RENEWAL—Coterra Energy Inc.; Pad ID: HunsingerA P2; ABR-201908010.R1; Dimock Township, Susquehanna County, Pa.; Consumptive Use of Up to 5.0000 mgd; Approval Date: November 25, 2024.

7. RENEWAL—Coterra Energy Inc.; Pad ID: Teel P1; ABR-20090541.R3; Springville Township, Susquehanna County, Pa.; Consumptive Use of Up to 5.0000 mgd; Approval Date: November 25, 2024.

8. RENEWAL—EQT ARO LLC; Pad ID: COP Tract 653 Pad C; ABR-20090415.R3; Beech Creek Township, Clinton County, Pa.; Consumptive Use of Up to 4.0000 mgd; Approval Date: November 25, 2024.

9. RENEWAL—Seneca Resources Company, LLC; Pad ID: PHC 6H; ABR-20090721.R3; Lawrence Township, Clearfield County, Pa.; Consumptive Use of Up to 4.0000 mgd; Approval Date: November 25, 2024.

10. RENEWAL—Chesapeake Appalachia, L.L.C.; Pad ID: Gowan; ABR-20091001.R3; Terry Township, Bradford County, Pa.; Consumptive Use of Up to 7.5000 mgd; Approval Date: November 27, 2024.

11. RENEWAL—Chesapeake Appalachia, L.L.C.; Pad ID: Harry; ABR-20091017.R3; West Burlington Township, Bradford County, Pa.; Consumptive Use of Up to 7.5000 mgd; Approval Date: November 27, 2024.

12. RENEWAL—Coterra Energy Inc.; Pad ID: ButlerL P1; ABR-201405010.R2; Lathrop Township, Susquehanna County, Pa.; Consumptive Use of Up to 5.0000 mgd; Approval Date: November 27, 2024.

13. RENEWAL—Coterra Energy Inc.; Pad ID: Teel P6; ABR-20090543.R3; Springville Township, Susquehanna County, Pa.; Consumptive Use of Up to 5.0000 mgd; Approval Date: November 27, 2024.

14. RENEWAL—Seneca Resources Company, LLC; Pad ID: DCNR 595 Pad D; ABR-20090827.R3; Bloss Township, Tioga County, Pa.; Consumptive Use of Up to 4.0000 mgd; Approval Date: November 27, 2024.

15. RENEWAL—Coterra Energy Inc.; Pad ID: BrooksW P2; ABR-201908009.R1; Springville Township, Susquehanna County, Pa.; Consumptive Use of Up to 5.0000 mgd; Approval Date: November 29, 2024.

16. RENEWAL—EQT ARO LLC; Pad ID: COP Tract 289 Pad B; ABR-20090409.R3; McHenry Township, Lycoming County, Pa.; Consumptive Use of Up to 4.0000 mgd; Approval Date: November 29, 2024.

17. RENEWAL—Pennsylvania General Energy Company, L.L.C.; Pad ID: COP Tract 293 Pad-A; ABR-201908004.R1; Cummings Township, Lycoming County, Pa.; Consumptive Use of Up to 2.0000 mgd; Approval Date: November 29, 2024.

18. RENEWAL—Pennsylvania General Energy Company, L.L.C.; Pad ID: COP Tract 729 Pad-A; ABR-201908003.R1; Cummings Township, Lycoming County, Pa.; Consumptive Use of Up to 2.0000 mgd; Approval Date: November 29, 2024.

Authority: Public Law 91-575, 84 Stat. 1509 et seq., 18 CFR parts 806 and 808.

Dated: December 12, 2024.
Jason E. Oyler,
General Counsel and Secretary to the Commission.

[FR Doc. 2024-29690 Filed 12-16-24; 8:45 am]

BILLING CODE 7040-01-P